DEPARTMENT OF COMMERCE

National Oceanic and Atmospheric Administration

Mid-Atlantic Fishery Management Council (MAFMC); Fisheries of the Northeastern United States; Scoping Process

AGENCY: National Marine Fisheries Service (NMFS), National Oceanic and Atmospheric Administration (NOAA), Commerce.

ACTION: Notice of public scoping meetings.

SUMMARY: The Mid-Atlantic Fishery Management Council will hold six scoping hearings in April 2015 for an Amendment to the Fishery Management Plan (FMP) for Atlantic Mackerel, Squid, and Butterfish (MSB). The current focus of the amendment is to consider alternatives to reduce the capacities of the longfin squid and Illex squid fleets as defined by vessels with limited access permits. At the scoping hearings the Council will also take any general comments on MSB fishery management, which could inform future Council actions besides this Amendment. There will also be a separate written comment period for Amendment scoping, which will be described in an upcoming Federal Register announcement as a “Notice of Intent (NOI)” to potentially develop an EIS that accompanies the Amendment. That NOI will also contain information regarding these scoping hearings, but to provide the public with sufficient advance notice of the hearings, this notice is being published now since the NOI will likely publish shortly before the scoping hearings.

DATES: The meetings will be held over several weeks between April 6, 2015 and April 21, 2015. See SUPPLEMENTARY INFORMATION for specific dates and times.

ADDRESSES: See SUPPLEMENTARY INFORMATION for specific locations of the hearings.

Council address: Mid-Atlantic Fishery Management Council, 800 N. State St., Suite 201, Dover, DE 19901; telephone: (302) 674-2331.

Comments: Comments will be taken at all scoping hearings. A separate Federal Register announcement will be published soon that provides additional information on how to make written comments.

FOR FURTHER INFORMATION CONTACT: Christopher M. Moore, Ph.D. Executive Director, Mid-Atlantic Fishery Management Council; telephone: (302) 526-5255. The Council's Web site, www.mafmc.org also has details on the meeting locations, webinar access, and background materials. A scoping document will be posted to the Council Web site no later than March 24, 2015.

SUPPLEMENTARY INFORMATION: There will be six scoping meetings (each lasting approximately 1-2 hours depending on attendance) with the following dates/times/locations:

1. Monday, April 6, 2015, 4 p.m., Superior Trawl, 55 State Street, Narragansett, RI 02882; telephone: (401) 782-1171.

2. Tuesday, April 7, 2015, 5 p.m., Montauk Library, 871 Montauk Highway, Montauk, NY 11954; telephone: (631) 668-3377.

3. Wednesday, April 8, 2015, 5 p.m., Fairfield Inn, 185 MacArthur Dr., New Bedford, MA 02740; telephone: (774) 634-2000.

4. Monday, April 13, 2015, 6 p.m., Congress Hall Hotel. 251 Beach Ave, Cape May, NJ 08204, telephone: (888) 944-1816.

5. Wednesday, April 15, 2015, 5 p.m., Ocean Place Resort. 1 Ocean Blvd., Long Branch, NJ, 07740; telephone: 732-571-4000.

6. Tuesday, April 21, 2015, 6 p.m., This April 21, 2015 meeting will be conducted via webinar accessible via the internet from the Council's Web site, www.mafmc.org. The Virginia Marine Resources Commission will also provide in-person access to the webinar at its office at: 2600 Washington Avenue, 4th Floor, Newport News, VA 23607; telephone: (757) 247-2200. Members of the public may also attend in-person at the Council office address (see ADDRESSES) for this webinar meeting, if they contact the Council by April 19, 2015. Please contact Jason Didden by April 19, 2015 at jdidden@mafmc.org or (302) 526-5254 if you would like to test/confirm that your computer is set up to access the webinar.

In the Council's 2015 Implementation Plan (available at http://www.mafmc.org/strategic-plan/), the Council decided to initiate an action on a “Squid Capacity Amendment.” There is considerable latent capacity in both the longfin squid and Illex squid fisheries—a small portion of vessels with limited access squid permits account for most landings in most years. The Council is concerned that activation of this latent capacity could cause problems in the fishery such as racing to fish and increased incidental catch of non-target species. Accordingly, the Amendment is likely to consider a variety of approaches for reducing capacity in the squid fisheries. Such approaches could include, but would not be limited to, a requalification of limited access permits, a tiered limited access system, and/or a limited access privilege program (LAPP), which is more commonly referred to as an “individual quota” or “catch share system.” The Council has recently updated control dates for both squid fisheries—May 16, 2013 for longfin squid (http://www.greateratlantic.fisheries.noaa.gov/nr/2013/May/13smblongfinbutterfishcontroldatephl.pdf) and August 2, 2013 for Illex squid (http://www.greateratlantic.fisheries.noaa.gov/nr/2013/August/13smbillexcontroldatephl.pdf). The Council may (or may not) use the current or previous control dates as reference points as it considers whether, and/or how, to further limit the number of participants in the squid fisheries (see preceding links for additional details on the control dates).

The Council will first gather information during the scoping period. This is the first and best opportunity for members of the public to raise concerns related to the scope of issues that will be considered in the Amendment. The Council needs your input both to identify management issues and develop effective alternatives. Your comments early in the amendment development process will help us address issues of public concern in a thorough and appropriate manner. Comment topics could include the scope of issues in the amendment, concerns and potential alternatives related to capacity in the squid fisheries, and the appropriate level of environmental analysis. If the Council decides to move forward with the Amendment, the Council will develop a range of management alternatives to be considered and prepare a draft Environmental Impact Statement (DEIS) and/or other appropriate environmental analyses. These analyses will consider the impacts of the management alternatives being considered, as required by the National Environmental Policy Act (NEPA). Following a review of any comments on the draft analyses, the Council will then choose preferred management measures for submission with a Final EIS or Environmental Assessment to the Secretary of Commerce for publishing of a proposed and then final rule, both of which have additional comment periods. While the Council is conducting these scoping hearings, the Council will also accept general comments on the MSB fisheries. These general comments could inform Council decision making for upcoming annual specifications or other actions.

Special Accommodations

These meetings are physically accessible to people with disabilities. Requests for sign language interpretation or other auxiliary aid should be directed to M. Jan Saunders, (302) 526-5251, at least 5 days prior to the meeting date.

Dated: March 17, 2015.
Tracey L. Thompson,
Acting Deputy Director, Office of Sustainable Fisheries, National Marine Fisheries Service.

[FR Doc. 2015-06438 Filed 3-20-15; 8:45 am]

BILLING CODE 3510-22-P